DEPARTMENT OF COMMERCE

International Trade Administration

A-570-846

Brake Rotors from the People's Republic of China: Extension of the New Shipper Antidumping Duty Reviews

AGENCY: Import Administration, International Trade Administration, Department of Commerce.

EFFECTIVE DATE: April 29, 2005.

FOR FURTHER INFORMATION CONTACT: John Conniff at (202) 482-1009, AD/CVD Enforcement, Office 9, Import Administration, International Trade Administration, U.S. Department of Commerce, 14th Street and Constitution Avenue, NW, Washington, DC, 20230.

SUPPLEMENTARY INFORMATION:

Background

At the request of both Dixion Brake System (Longkou) Ltd. and Laizhou Wally Automobile Co., Ltd., the Department of Commerce (“the Department”) initiated new shipper reviews of the antidumping duty order on brake rotors from the People's Republic of China for the period April 1, 2004, through September 30, 2004. See Brake Rotors from the PRC: Initiation of Twelfth New Shipper Antidumping Duty Review, 69 FR 70632 (December 7, 2004). The preliminary results of this review are currently due no later than May 23, 2005.

Extension of Time Limit for Preliminary Results of Review

Pursuant to 751(a)(2)(B)(iv) of the Tariff Act of 1930, as amended (“the Act”) and 19 CFR 351.214(i)(1), the Department will issue the preliminary results of a new shipper review within 180 days after the date on which the new shipper review was initiated, and issue the final results within 90 days after the date on which the preliminary results were issued. The Department may, however, extend the deadline for completion of the preliminary results of a new shipper review to 300 days if it determines that the case is extraordinarily complicated (19 CFR 351.214(i)(2)).

The Department finds that this case is extraordinarily complicated and that the preliminary results of this new shipper review cannot be completed within the statutory time limit of 180 days. Specifically, the information that must be analyzed in order to determine whether the new shippers sales are bona fide is voluminous and complicated. Accordingly, the Department is extending the time limit for the completion of the preliminary results of this new shipper review until September 20, 2005, which is 300 days after the date on which the new shipper review was initiated. We intend to issue the final results no later than 90 days after the date of issuance of the preliminary results.

This notice is in accordance with section 751(a)(2)(B)(iv) of the Act and 19 CFR 351.214(i)(2).

Dated: April 25, 2005.
Barbara E. Tillman,
Acting Deputy Assistant Secretary for Import Administration.

[FR Doc. E5-2058 Filed 4-28-05; 8:45 am]

BILLING CODE 3510-DS-S